DEPARTMENT OF ENERGY

Federal Energy Regulatory Commission

[Project No. 4644-015]

Stevens & Thompson Paper Company, Inc., GR Catalyst Two, LLC; Notice of Application for Transfer of License and Soliciting Comments, Motions To Intervene, and Protests

On January 7, 2019, Stevens & Thompson Paper Company, Inc. (transferor) and GR Catalyst Two, LLC (transferee) filed an application for the transfer of license of the Dahowa Project No. 4644. The project is located on the Batten Kill River in Washington County, New York.

The applicants seek Commission approval to transfer the license for the Dahowa Project from the transferor to the transferee.

Applicants Contact: For transferor: Stevens & Thompson Paper Company, Inc., Attn: Emory L. Waldrip II, President, 27711 Marina Pointe Drive, Bonita Springs, Florida 34134, Email: emoryw@earthlink.net.

For transferee: GR Catalyst Two, LLC, c/o Gravity Renewables, Inc., Attn: Mark J. Boumansour, COO, 1401 Walnut Street, Suite 420, Boulder, Colorado 80302, Email: mark@gravityrenewables.com.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-4644-015.

Dated: February 15, 2019.
Nathaniel J. Davis, Sr.,
Deputy Secretary.

[FR Doc. 2019-03145 Filed 2-22-19; 8:45 am]

BILLING CODE 6717-01-P